DEPARTMENT OF COMMERCE

National Oceanic and Atmospheric Administration

RIN 0648-XE946

Fisheries of the South Atlantic; South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of its Snapper Grouper Advisory Panel (AP) and Information and Education AP. The Snapper Grouper AP will meet to discuss items pertaining to the management of the snapper grouper fishery of the South Atlantic Region. A meeting of the Council's Information and Education AP will follow with the AP addressing outreach efforts and communication needs. See SUPPLEMENTARY INFORMATION.

DATES: The Snapper Grouper AP meeting will be held on Monday, October 31, 2016 and Tuesday, November 1, 2016, from 9 a.m. until 5 p.m., each day. The Information and Education AP meeting will be held Wednesday, November 2, 2016, from 8:30 a.m. until 5 p.m. and Thursday, November 3, 2016, from 8:30 a.m. to 3 p.m.

ADDRESSES:

Meeting address: The meetings will be held at the Crowne Plaza Hotel, 4831 Tanger Outlet Blvd., North Charleston, SC 29418.

Council address: South Atlantic Fishery Management Council, 4055 Faber Place Drive, Suite 201, N. Charleston, SC 29405.

FOR FURTHER INFORMATION CONTACT: Kim Iverson, Public Information Officer, South Atlantic Fishery Management Council, 4055 Faber Place Drive, Suite 201, N. Charleston, SC 29405; phone: (843) 571-4366 or toll free (866) SAFMC-10; fax: (843) 769-4520; email: kim.iverson@safmc.net.

SUPPLEMENTARY INFORMATION: The Snapper Grouper Advisory Panel will receive an update on the status of amendments to the Snapper Grouper Fishery Management Plan (FMP) recently approved by the Council and submitted for Secretarial review, receive an update on Amendment 41, (addressing management of mutton snapper), and the draft For-Hire Electronic Reporting Amendment. In addition, the Panel will review and provide recommendations on actions proposed for inclusion in Amendment 43 (addressing red snapper), the Vision Blueprint Recreational Amendment, the Vision Blueprint Commercial Amendment, and Amendment 44 (addressing yellowtail snapper allocations). Other discussion items include possible implementation of limited-entry for the for-hire sector; catch history and its association with gear endorsements in the commercial sector; and updates on on-going projects/programs (SEDAR, characterization of the commercial snapper grouper fishery, and Citizen Science).

The Information and Education AP will review and provide recommendations on the Council's Communication's Survey, approaches for the Council's Managed Areas outreach, the upgrade to the Council's Web site, and a possible online forum for stakeholder engagement. Other discussion items include information related to proposed management measures for red snapper and recreational reporting, evaluation of the Council's 2016-20 Snapper Grouper Vision Blueprint, and ideas for improving communication about fishery science and data collection.

Special Accommodations

The meetings are accessible to people with disabilities. Requests for auxiliary aids should be directed to the SAFMC office (see ADDRESSES) at least 5 business days prior to the meeting.

Note: The times and sequence specified in this agenda are subject to change.

Authority: 16 U.S.C. 1801 et seq.

Dated: October 6, 2016.
Tracey L. Thompson,
Acting Deputy Director, Office of Sustainable Fisheries, National Marine Fisheries Service.

[FR Doc. 2016-24677 Filed 10-12-16; 8:45 am]

BILLING CODE 3510-22-P